DEPARTMENT OF HEALTH AND HUMAN SERVICES

Health Resources and Services Administration

Providing Support for the Collaborative Improvement and Innovation Network (CoIIN) To Reduce Infant Mortality

AGENCY: Health Resources and Services Administration, HHS.

ACTION: Notice of a single-award deviation from competition requirements for providing support for the Collaborative Improvement and Innovation Network (CoIIN) to Reduce Infant Mortality.

SUMMARY: HRSA announces the award of an extension in the amount of $3,000,000 for the Providing Support for the Collaborative Improvement and Innovation Network (CoIIN) to Reduce Infant Mortality cooperative agreement. The purpose of the CoIIN is to develop and disseminate evidence-based interventions to reduce infant mortality across states in Regions I, II, III, VII, VIII, IX, and X by planning, implementing, and managing regional CoIINs; providing technical assistance to CoIIN teams to improve approaches to address infant mortality in their respective regions through the understanding of quality improvement concepts, tools, and techniques; and assisting regional CoIIN participants and stakeholders in understanding the process for sustaining and continuing project strategies after the Federal period of support. The extension will permit the National Institute for Children's Health Quality, Inc. (NICHQ), the cooperative agreement awardee, during the budget period of 9/30/2016-9/29/2017, to complete activities.

SUPPLEMENTARY INFORMATION:

Intended Recipient of the Award: National Institute for Children's Health Quality, Inc.

Amount of Non-Competitive Awards: $3,000,000.

Period of Supplemental Funding: 9/30/2016-9/29/2017.

CFDA Number: 93.110.

Authority: Special Projects of Regional and National Significance (SPRANS); Social Security Act, Title V, § 501(a)(2-3); 42 U.S.C. 701 (a)(2-3).

Justification: The National Institute for Children's Health Quality, Inc. (NICHQ), as part of the cooperative agreement, oriented and trained CoIIN participants on quality improvement processes and related principles and practices; planned and conducted regularly scheduled learning sessions and monthly action period calls for each strategy team; provided technical assistance to state strategy teams on how to track progress of chosen quality improvement aims through the use of real-time data; and provided an internet-based collaborative workspace for monthly/quarterly/annual reporting of qualitative and quantitative topic-specific and common measures of progress. In project year 2, NICHQ received approval to add Regions IV, V, and VI to the scope of work. As such, NICHQ has developed a CoIIN to reduce infant mortality that includes all 59 states and jurisdictions and focuses on six common state-driven strategies (safe sleep, smoking cessation, preconception and interconception care, perinatal regionalization, prevention of pre/early term birth, and social determinants of health). NICHQ provides ongoing technical assistance to these six strategy teams dedicated to improving infant mortality by focusing on the strategy topics and to state personnel to implement CoIIN strategies. NICHQ has used the Institute for Healthcare Improvement's (IHI) Breakthrough Series Model for Improvement where strategy teams commit to working over a period of 12-18 months, alternating between learning sessions and action periods. During the entire collaborative cycle, teams are connected through a virtual, on-line community and are expected to upload and share their results (i.e., data submission/reporting) as well as encouraged to conduct peer-to-peer sharing/mentoring.

The recipient continues to make significant progress. However, the project experienced significant delays due to factors beyond the grantee's control. Startup delays included developing state personnel and systems capacity to monitor and implement activities to improve infant mortality. Also, orientation to the CoIIN methodology/approach took longer than anticipated as states and jurisdictions reported competing priorities. Further, states needed additional technical assistance and capacity building related to data collection and submission as there were several state and/or local level barriers to obtaining the data needed for activity and outcome measures which required resolution at the state level. Though some states were able to begin collecting data in August 2015, some activity and/or outcome measures are unavailable until at least 6-8 weeks after the end of the data collection period due to state policies/procedures.

MCHB found similar delays in its CoIIN pilot that concluded one year after this CoIIN cooperative agreement began. An analysis of the pilot data showed that applying the IHI method to state public health systems rather than clinical settings required an additional 6-8 months to meet the quality improvement aims and show measurable improvements in infant mortality and birth outcomes. NICHQ must continue activities beyond the original project period (9/30/2013-9/29/2016) to achieve the additional months of state action and learning sessions with accompanying data submissions.

FOR FURTHER INFORMATION CONTACT: Vanessa Lee, MPH, Division of Healthy Start and Perinatal Services, Maternal and Child Health Bureau, Health Resources and Services Administration, 5600 Fishers Lane, Room 18N84, Rockville, MD 20852, Phone: (301) 443-9992, Fax: (301) 594-0878, Email: VLee1@hrsa.gov.

Dated: April 29, 2016.
James Macrae,
Acting Administrator.

[FR Doc. 2016-10514 Filed 5-4-16; 8:45 am]

BILLING CODE 4165-15-P